FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—12/18/2006
20070345 | GTCR Fund IX/A, L.P | 3M Company | 3M Innovative Properties Company.
|  |  | Riker Laboratories, Inc.
TRANSACTIONS GRANTED EARLY TERMINATION—12/19/2006
20070341 | Cadent Energy Partners I, L.P | George W. Mullane, Jr | Logan Oil Tools, Inc.
20070371 | Green Equity Investors IV, L.P | Brickman Group Holdings, Inc | Brickman Group Holdings, Inc.
20070378 | Cooper Industries, Ltd | Wire-Pro, Inc | Viking Electronics, Inc., Wire-Pro, Inc., WPI-Boston Division, Inc., WPI-Sarasota Division, Inc., WPI-Viking Division, S.A. de C.V.
20070391 | United Technologies Corporation | Longville Group Ltd | Longville Group Ltd.
20070411 | Blum Strategic Partners III, L.P | Kinetic Concepts, Inc | Kinetic Concepts, Inc.
20070438 | Sterling Investment Partner II, L.P | Fairway Operating Corp | Fairway Operating Corp.
20070441 | Deutsche Post AG | Atlas Air Worldwide Holdings, Inc | Polar Air Cargo Worldwide, Inc.
20070465 | Hewlett-Packard Company | Knightsbridge Solutions Holdings Corp | Knightsbridge Solutions Holding Corp.
TRANSACTIONS GRANTED EARLY TERMINATION—12/20/2006
20070168 | H.I.G. TestAmerica, Inc | Severn Trent Plc | Aerotech Holdings, Inc., En Novative Technologies, Inc., Severn Trent Laboratories, Inc.
20070383 | Carylyle Partners IV, L.P | Sharon Tube Corporation | Sharon Tube Corporation.
20070392 | Smith & Wesson Holding Corporation | Bear Lake Acquisition Corp | Bear Lake Acquisition Corp.
20070440 | Tullett Prebon plc | C&W Corporate Securities LLC | Chapdelaine Corporate Securities & Co.
20070442 | Oak Hill Capital Partners II, L.P | Frank A. Critz, M.D | Radiotherapy Clinics of Georgia.
20070443 | Lonza Group Limited | Cambrex Corporation | Cambrex Corporation.
20070448 | Lawrence Flinn, Jr | Barry O'Callaghan | HM Rivergroup, PLC.
20070455 | Edward W. Stack | Golf Galaxy, Inc | Golf Galaxy, Inc.
TRANSACTIONS GRANTED EARLY TERMINATION—12/21/2006
20070397 | Group 1 Automotive, Inc | A. Baron Cass III | Baron Development Company, LLC, Baron Motorwerks, LLC, Baron Volkswagen, Inc.
20070398 | Group 1 Automotive, Inc | Barton J. Cohen | Baron Development Company, LLC, Baron Motowerks, LLC, Baron Volkswagen, Inc.
20070407 | Partners HealthCare System, Inc | Martha's Vineyard Hospital, Inc | Martha's Vineyard Hospital, Inc.
20070410 | Partners HealthCare System, Inc | Nantucket Cottage Hospital | Nantucket Cottage Hospital.
20070431 | Third Point Offshore Fund, Ltd | Pogo Producing Company | Pogo Producing Company.
TRANSACTIONS GRANTED EARLY TERMINATION—12/22/2006
20070367 | Medstead Luxco S.a.r.l | Permira Europe II L.P.2 | Ferretti S.p.A.
20070369 | Bain Capital (OSI) IX, L.P | OSI Restaurant Partners, Inc | OSI Restaurant Partners, Inc.
20070400 | Sonoco Products Company | Snyder Investment Holdings LLC | Clear Pack Company.
20070403 | Goldstein Group, Inc | Velia Samuels Common Stock Trust | Samuels Recycling Company.
20070415 | Starwood Capital Hospitality Fund I-2, L.P | elevenseven Holdings, L.L.C | elevenseven Holdings, L.L.C.
20070425 | Freeport-McMoRan Cooper & Gold Inc | Phelps Dodge Corporation | Phelps Dodge Corporation.
20070427 | Glide Buy-Out Fund III CV | Rockwood Holdings, Inc | Gruop Novasep SAS.
20070429 | ArcLight Energy Partners Fund III, L.P | AltairStrickland Group, Inc | AltairStrickland Group, Inc.
20070457 | Harbinger Capital Partners Offshore Fund I, Ltd | Calpine Corporation | MEP Pleasant Hill, LLC.
20070460 | Mr. Jostein Eikeland | Fiat S.p.A | Meridian Technologies, Inc.
20070467 | Behrman Capital III L.P | The Jerry L. Hayden Trust dated April 22, 1994 | Peacock Engineering Company.
20070468 | Geodis S.A | TNT N.V | TNT Freight Management Holdings.
20070474 | Marubeni Corporation | Mark J. Vallely | Intragrated Resources Holdings, Inc.
20070475 | Colam Entreprendre S.A | Crawford Electric Supply Company, Ltd | Crawford Electric Supply Company, Ltd.
20070477 | Standex International Corporation | Associated American Industries, Inc | Associated American Industries, Inc.
20070480 | General Motors Corporation | Con-way Inc | Vector SCM, LLC.
20070482 | GS Capital Partners V, L.P | McJunkin Corporation | McJunkin Corporation.
20070483 | General Electric Company | Moseley Associates, Inc | Microwave Data Systems, Inc.
20070484 | Graeme Hart | International Paper Company | International Paper Company.
20070485 | Veritas Capital Fund III, L.P | Pearson plc | NCS Pearson Venezuela, NCS Services de Mexico, S.A. de C.V., Pearson Analytic Solutions, Inc., Pearson Canada Solutions Limited, Pearson Government Solution, Inc., Pearson Soluciones S.A., Soluciones Pearson Mexico, S.A. de C.V.
20070489 | Cardiovascular Hospitals of America, LLC | St. Francis Health Care System of Hawaii | Hawaii Health Ventures, LLC, SFMC Joint Ventures, LLC, St. Francis Imaging, LLC, St. Francis Medical Center, St. Francis Medical Center—West.
TRANSACTIONS GRANTED EARLY TERMINATION—12/26/2006
20070478 | Scott Sheridan | INVESTools, Inc | INVESTools Inc.
20070479 | Tom Sosnoff | INVESTools Inc | INVESTools Inc.
20070488 | Motorola, Inc | Netopia, Inc | Netopia, Inc.
TRANSACTIONS GRANTED EARLY TERMINATION—12/28/2006
20060776 | General Dynamics Corporation | SNC-Lavalin Group Inc | SNC Technologies Corp., SNC Technologies Inc.
TRANSACTIONS GRANTED EARLY TERMINATION—12/29/2006
20061812 | The TriZetto Group, Inc | Quality Care Solutions, Inc | Quality Care Solutions, Inc.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. 07-81 Filed 1-11-07: 8:45 am]

BILLING CODE 6750-01-M